DEPARTMENT OF THE INTERIOR

Bureau of Land Management

[BLM_NM_FRN_MO4500175760; NMNM 106216530, NMNM 109118]

Public Land Order No. 7934; Extension of Public Land Order No. 7591; Withdrawal for Federal Law Enforcement Training Center, New Mexico

AGENCY: Bureau of Land Management, Interior.

ACTION: Public land order.

SUMMARY: This order extends the duration of the withdrawal created by Public Land Order (PLO) No. 7591 for an additional 20-year term. PLO No. 7591 withdrew 1,920.80 acres of public lands from location and entry under the United States mining laws, but not from leasing under the mineral leasing laws, and reserved the lands for the Department of Homeland Security (DHS) to protect, maintain, and operate its Federal Law Enforcement Training Center (FLETC) in Eddy County, New Mexico.

DATES: This PLO takes effect on November 19, 2023.

FOR FURTHER INFORMATION CONTACT: Tammie Hochstein, BLM Carlsbad Field Office Realty Specialist, by email at thochste@blm.gov, or (575) 234-5902. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The purpose of the withdrawal extended by this order is for the continued protection of the FLETC and to allow the DHS to continue operations without interference or any potential adverse impacts of mineral development.

Order

By virtue of the authority vested in the Secretary of the Interior by Section 204 of the Federal Land Policy and Management Act of 1976, 43 U.S.C. 1714, it is ordered as follows:

1. Subject to valid existing rights, PLO No. 7591 (68 FR 65471, November 20, 2003), which withdrew 1,920.80 acres of public lands from location and entry under the United States mining laws for the Department of Homeland Security to protect, operate, and maintain its Federal Law Enforcement Training Center, is hereby extended for an additional 20-year period.

2. This withdrawal will expire 20 years from the effective date of this order unless, as a result of a review conducted prior to the expiration date pursuant to Section 204(f) of the Federal Land Policy and Management Act, 43 U.S.C. 1714(f), the Secretary determines that the withdrawal shall be further extended.

(Authority: 43 U.S.C. 1714)

Robert T. Anderson,
Solicitor.

[FR Doc. 2023-25284 Filed 11-15-23; 8:45 am]

BILLING CODE 4331-23-P